DEPARTMENT OF ENERGY

Federal Energy Regulatory Commission

[Docket Nos. RM05-17-002; Docket Nos. RM05-25-002]

Preventing Undue Discrimination and Preference in Transmission Service; Notice of Staff Technical Conference

July 12, 2007.

Take notice that Commission staff will convene a technical conference on July 30, 2007 to consider certain issues relating to findings and requirements established in the Final Rule issued in this proceeding on February 16, 2007.¹ In particular, as directed in the June 26, 2007 Order Establishing Technical Conference and Providing Guidance, this technical conference will consider (1) the minimum lead-time for undesignating network resources in order to make firm third-party sales and (2) the eligibility of on-system seller's choice and system sales to be designated as network resources.

¹ Preventing Undue Discrimination and Preference in Transmission Service, Order No. 890, 72 FR 12266 (March 15, 2007), FERC Stats. & Regs. ¶ 31,241 at PP 1483 and 1557-59 (2007), reh'g pending.

The technical conference will convene at 9 a.m. (EDT) at the Federal Energy Regulatory Commission, 888 First Street, NE., Washington, DC 20426, in the Commission Meeting Room. All interested persons are invited to attend, and registration is not required.

Commission staff is now soliciting nominations for speakers at the technical conference. Persons wishing to nominate themselves as speakers should do so using the following electronic link: https://www.ferc.gov/whats-new/registration/trans-serv-07-30-speaker-form.asp. Such nominations must be made before the close of business on Thursday, July 19, 2007, so that an agenda for the technical conference can be drafted and published.

A free Webcast of this event is available through http://www.ferc.gov. Anyone with Internet access who desires to view this event can do so by navigating to http://www.ferc.gov's Calendar of Events and locating this event in the calendar. The event will contain a link to its Webcast. The Capitol Connection provides technical support for the free Webcasts. It also offers access to this event via television in the DC area and via phone bridge for a fee. If you have any questions, visit http://www.CapitolConnection.org or contact Danelle Perkowski or David Reininger at 703-993-3100.

FERC conferences are accessible under section 508 of the Rehabilitation Act of 1973. For accessibility accommodations please send an e-mail to: accessibility@ferc.gov or call toll free 1-866-208-3372 (voice) or 202-208-8659 (TTY), or send a fax to 202-208-2106 with the required accommodations.

For further information about this conference, please contact:

Tom Dautel, Office of Energy Markets and Reliability, Federal Energy Regulatory Commission, 888 First Street, NE., Washington, DC 20426, (202) 502-6196, Thomas.Dautel@ferc.gov.

W. Mason Emnett, Office of the General Counsel—Energy Markets, Federal Energy Regulatory Commission, 888 First Street, NE., Washington, DC 20426, (202) 502-6540, Mason.Emnett@ferc.gov.

Kimberly D. Bose,
Secretary.

[FR Doc. E7-13971 Filed 7-18-07; 8:45 am]

BILLING CODE 6717-01-P